ENVIRONMENTAL PROTECTION AGENCY

[EPA-HQ-OEI-2012-0774; FRL-9764-3]

Office of Environmental Information; Announcement of Availability and Comment Period for the Draft Quality Standard for Environmental Data Collection, Production, and Use by Non-EPA (External) Organizations and two associated QA Handbooks

AGENCY: Environmental Protection Agency (EPA).

ACTION: Notice of availability & request for comment.

SUMMARY: Notice of availability for a 30 day review and comment period is hereby given for the draft Quality Standard for Environmental Data Collection, Production, and Use by Non-EPA (External) Organizations and two associated draft QA Handbooks; 1) draft Handbook for Preparing Quality Management Plans (QMPs) and 2) draft Handbook for Preparing Quality Assurance (QA) Project Plans (QAPPs).

The draft Quality Standard for Environmental Data Collection, Production, and Use by Non-EPA (External) Organizations contains no new requirements.

DATES: Comments must be submitted on or before January 25, 2013.

ADDRESSES: Submit your comments, identified by Docket ID No. EPA-HQ-OEI-2012-0774 by one of the following methods:

• www.regulations.gov: Follow the on-line instructions for submitting comments.

• Email: oei.docket@epa.gov

• Fax: 202-566-9744

• Mail: Announcement of Availability and Comment Period for Draft Quality Standard For Environmental Data Collection, Production, and Use By Non-EPA (External) Organizations Environmental Protection Agency, Mail code: 28221T, 1200 Pennsylvania Ave. NW.,Washington, DC 20460.

• Hand Delivery: 1301 Constitution Ave. NW., EPA West Building, Room 3334, Washington, DC 20460.

Such deliveries are only accepted during the Docket's normal hours of operation, and special arrangements should be made for deliveries of boxed information.

Instructions: Direct your comments to Docket ID No. EPA-HQ-OEI-2012-0774. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov website is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: John Warren; Environmental Protection Agency; 1200 Pennsylvania Avenue, MC 2811R; Washington, DC 20460; Phone: 202 564-6876; Fax: 202 565 2441; Email: quality@epa.gov

SUPPLEMENTARY INFORMATION: The draft Standard provides greater clarity about QA requirements for environmental data projects; addresses modeling activities, which were not specifically addressed in the previous EPA Order (CIO 2105.0) ¹ and provides greater alignment with the EPA Quality Policy (CIO 2106.0)². The draft Quality Standard defines how EPA quality requirements shall be applied to non-EPA organizations under authorized agreements governed by Federal regulations; and defines the general requirements an organization shall use to establish and maintain an effective quality management system for environmental programs. Non-EPA organizations will still be required to develop and submit a Quality Management Plan to EPA for approval for environmental data operations conducted on behalf of EPA and to use QAPPs or equivalent documents to establish quality specifications in individual project activities that collect, produce, and use environmental data.

¹ http://intranet.epa.gov/quality/documents/21050.pdf

² http://intranet.epa.gov/quality/documents/21060.pdf

The draft Quality Standard contains appendices which provide the requirements for QMPs and the requirements for QA Project Plans. When the standards are issued, EPA QA/R-2, EPA Requirements for Quality Management Plans, March 2001 (Reissued May 2006) ³ and EPA QA/R-5, EPA Requirements for Quality Assurance Project Plans, March 2001 (Reissued May 2006) ⁴ will be rescinded. Section 2.3.1 of the draft Quality Standard describes how this will impact non-EPA organizations with existing external agreements. Design of the draft Handbooks provides assistance to users creating QMPs and QAPPs that address the specifications listed in the draft Quality Standard.

³ http://www.epa.gov/quality/qs-docs/r2-final.pdf

⁴ http://www.epa.gov/quality/qs-docs/r5-final.pdf

EPA also plans to issue a Quality Standard for Environmental Collection, Production and Use by EPA organizations. The content of this standard is similar to the draft Quality Standard for External Organizations. This draft Quality Standard is currently being reviewed by EPA organizations. It is anticipated that both Quality Standards will be issued simultaneously.

Dated: December 18, 2012.
Monica D. Jones,
Director, Quality Staff.

[FR Doc. 2012-31096 Filed 12-21-12; 4:15 pm]

BILLING CODE 6560-50-P